DEPARTMENT OF ENERGY

Federal Energy Regulatory Commission

Combined Notice of Filings #1

Take notice that the Commission received the following electric rate filings:

Docket Numbers: ER10-2193-003.

Applicants: H.Q. Energy Services (U.S.) Inc.

Description: Supplement to May 19, 2021 Notice of Non-Material Change in Status of H.Q. Energy Services (U.S.) Inc.

Filed Date: 2/10/22.

Accession Number: 20220210-5072.

Comment Date: 5 p.m. ET 3/3/22.

Docket Numbers: ER21-1259-000; ER20-2888-002; ER20-2888-003; ER13-1430-013; ER13-1561-012; ER15-1218-011; ER16-38-009; ER16-39-008; ER16-1157-002; ER16-2501-005; ER16-2502-005; ER17-2341-006; ER17-2453-005; ER18-713-004; ER18-1076-004; ER18-1077-004; ER21-965-002; ER21-1259-002.

Applicants: Ventura Energy Storage, LLC, GASNA 36P, LLC, GASNA 6P, LLC, CA Flats Solar 150, LLC, Imperial Valley Solar 3, LLC, CA Flats Solar 130, LLC, Tropico, LLC, Nicolis, LLC, Kingbird Solar B, LLC, Kingbird Solar B, LLC, Kingbird Solar A, LLC, Solar Star California XIII, LLC, Centinela Solar Energy, LLC, Arlington Valley Solar Energy II, LLC, Townsite Solar, LLC, Coso Battery Storage, LLC.

Description: Notice of Non-Material Change in Status of Townsite Solar, LLC, et al.

Filed Date: 2/9/22.

Accession Number: 20220209-5199.

Comment Date: 5 p.m. ET 3/2/22.

Docket Numbers: ER21-666-003.

Applicants: WPPI Energy.

Description: Compliance filing: Compliance filing to letter order approving settlement to be effective 3/1/2021.

Filed Date: 2/10/22.

Accession Number: 20220210-5108.

Comment Date: 5 p.m. ET 3/3/22.

Docket Numbers: ER22-600-001.

Applicants: American Electric Power Service Corporation, Appalachian Power Company, Indiana Michigan Power Company, Kentucky Power Company, Kingsport Power Company, Ohio Power Company, Wheeling Power Company, PJM Interconnection, L.L.C.

Description: Compliance filing: American Electric Power Service Corporation submits tariff filing per 35: AEP submits amendment to OATT Att. H-14B Pt II, Worksheet O re PBOP to be effective N/A.

Filed Date: 2/10/22.

Accession Number: 20220210-5143.

Comment Date: 5 p.m. ET 3/3/22.

Docket Numbers: ER22-874-001.

Applicants: Graphite Solar 1, LLC.

Description: Tariff Amendment: Amendment to base line filing to be effective 2/10/2022.

Filed Date: 2/10/22.

Accession Number: 20220210-5107.

Comment Date: 5 p.m. ET 3/3/22.

Docket Numbers: ER22-1011-000.

Applicants: Midcontinent Independent System Operator, Inc.

Description: § 205(d) Rate Filing: 2022-02-10_SA 3493 METC-River Fork Solar 1st Rev GIA (J806) to be effective 1/28/2022.

Filed Date: 2/10/22.

Accession Number: 20220210-5030.

Comment Date: 5 p.m. ET 3/3/22.

Docket Numbers: ER22-1012-000.

Applicants: Southwest Power Pool, Inc.

Description: § 205(d) Rate Filing: Attachment AQ Revisions to Modify the Delivery Point Assessment Process to be effective 6/1/2022.

Filed Date: 2/10/22.

Accession Number: 20220210-5059.

Comment Date: 5 p.m. ET 3/3/22.

Docket Numbers: ER22-1013-000.

Applicants: NSTAR Electric Company.

Description: Tariff Amendment: Cancellation of Servistar LLC—Interconnection Study Agreement to be effective 2/10/2022.

Filed Date: 2/10/22.

Accession Number: 20220210-5099.

Comment Date: 5 p.m. ET 3/3/22.

Docket Numbers: ER22-1014-000.

Applicants: Power Authority of the State of New York, New York Independent System Operator, Inc.

Description: § 205(d) Rate Filing: Power Authority of the State of New York submits tariff filing per 35.13(a)(2)(iii: NYPA 205: Revisions to NYPA formula rate to be effective 4/11/2022.

Filed Date: 2/10/22.

Accession Number: 20220210-5155.

Comment Date: 5 p.m. ET 3/3/22.

Docket Numbers: ER22-1015-000.

Applicants: Prairie Breeze Wind Energy II LLC.

Description: § 205(d) Rate Filing: Market-Based Rate Tariff Revisions to be effective 2/11/2022.

Filed Date: 2/10/22.

Accession Number: 20220210-5157.

Comment Date: 5 p.m. ET 3/3/22.

Docket Numbers: ER22-1016-000.

Applicants: Prairie Breeze Wind Energy III LLC.

Description: § 205(d) Rate Filing: Market-Based Rate Tariff Revisions to be effective 2/11/2022.

Filed Date: 2/10/22.

Accession Number: 20220210-5159.

Comment Date: 5 p.m. ET 3/3/22.

Docket Numbers: ER22-1017-000.

Applicants: The Potomac Edison Company, PJM Interconnection, L.L.C.

Description: § 205(d) Rate Filing: The Potomac Edison Company submits tariff filing per 35.13(a)(2)(iii: Potomac submits a Borderline Service Agreement, SA No. 6135 with Monongahela to be effective 4/12/2022.

Filed Date: 2/10/22.

Accession Number: 20220210-5160.

Comment Date: 5 p.m. ET 3/3/22.

Docket Numbers: ER22-1018-000.

Applicants: New Market Solar ProjectCo 2, LLC.

Description: Baseline eTariff Filing: Assignment, Co-Tenancy, and Shared Facilities Agreement, and Request for Waivers to be effective 2/15/2022.

Filed Date: 2/10/22.

Accession Number: 20220210-5175.

Comment Date: 5 p.m. ET 3/3/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2022.
Debbie-Anne A. Reese,
Deputy Secretary.

[FR Doc. 2022-03322 Filed 2-15-22; 8:45 am]

BILLING CODE 6717-01-P